DEPARTMENT OF HEALTH AND HUMAN SERVICES

National Institutes of Health

National Eye Institute; Notice of Closed Meetings

Pursuant to section 1009 of the Federal Advisory Committee Act, as amended, notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Eye Institute Special Emphasis Panel; Center Core Grant for Vision Research (P30) Applications.

Date: April 1, 2025.

Time: 9:30 a.m. to 3:00 p.m.

Agenda: To review and evaluate grant applications.

Address: National Eye Institute, 6700 Rockledge Drive, Bethesda, MD 20817.

Meeting Format: Virtual Meeting.

Contact Person: Jeanette M. Hosseini, Ph.D., Scientific Review Officer, Division of Extramural Research, National Eye Institute, NIH, 6700 B Rockledge Drive, Suite 3400, Bethesda, MD 20892, 301-451-2020, jeanetteh@mail.nih.gov.

Name of Committee: National Eye Institute Special Emphasis Panel; Conference Grant (R13) Applications.

Date: April 11, 2025.

Time: 12:00 p.m. to 4:00 p.m.

Agenda: To review and evaluate grant applications.

Address: National Eye Institute, 6700 Rockledge Drive, Bethesda, MD 20817.

Meeting Format: Virtual Meeting.

Contact Person: Jeanette M. Hosseini, Ph.D., Scientific Review Officer, Division of Extramural Research, National Eye Institute, NIH, 6700 B Rockledge Drive, Suite 3400, Bethesda, MD 20892, 301-451-2020, jeanetteh@mail.nih.gov.

Name of Committee: National Eye Institute Special Emphasis Panel; Secondary Data Analysis (R21) Applications.

Date: April 23, 2025.

Time: 12:00 p.m. to 4:30 p.m.

Agenda: To review and evaluate grant applications.

Address: National Eye Institute, 6700 Rockledge Drive, Bethesda, MD 20817.

Meeting Format: Virtual Meeting.

Contact Person: Brian Hoshaw, Ph.D., Chief, Scientific Review Branch, Division of Extramural Research, National Eye Institute, NIH, 6700 B Rockledge Drive, Suite 3400, Rockville, MD 20892, 301-451-2020, hoshawb@mail.nih.gov.

Name of Committee: National Eye Institute Special Emphasis Panel; Clinical Trial Grant Applications.

Date: April 25, 2025.

Time: 12:00 p.m. to 4:30 p.m.

Agenda: To review and evaluate grant applications.

Address: National Eye Institute, 6700 Rockledge Drive, Bethesda, MD 20817.

Meeting Format: Virtual Meeting.

Contact Person: Brian Hoshaw, Ph.D., Chief, Scientific Review Branch, Division of Extramural Research, National Eye Institute, NIH, 6700 B Rockledge Drive, Suite 3400, Rockville, MD 20892, 301-451-2020, hoshawb@mail.nih.gov.

Name of Committee: National Eye Institute Special Emphasis Panel; Mentored Clinician Scientist (K08/K23) Applications.

Date: April 28, 2025.

Time: 1:00 p.m. to 5:30 p.m.

Agenda: To review and evaluate grant applications.

Address: National Eye Institute, 6700 Rockledge Drive, Bethesda, MD 20817.

Meeting Format: Virtual Meeting.

Contact Person: Jennifer C. Schiltz, Ph.D., Scientific Review Officer, Scientific Review Branch, Division of Extramural Research, National Eye Institute, NIH, Bethesda, MD 20817, 240-276-5864, jennifer.schiltz@nih.gov.

Name of Committee: National Eye Institute Special Emphasis Panel; Small Business Innovation (SBIR) and Small Business Technology Transfer (STTR) grant applications.

Date: April 29-30, 2025.

Time: 9:00 a.m. to 1:00 p.m.

Agenda: To review and evaluate grant applications.

Address: National Eye Institute, 6700 Rockledge Drive, Bethesda, MD 20817.

Meeting Format: Virtual Meeting.

Contact Person: Brian Hoshaw, Ph.D., Chief, Scientific Review Branch, National Eye Institute, National Institutes of Health, Division of Extramural Research, 6700 B Rockledge Drive, Suite 3400, Rockville, MD 20892, 301-451-2020, hoshawb@mail.nih.gov.

Name of Committee: National Eye Institute Special Emphasis Panel; Individual Pathway to Independence (K99) Review.

Date: May 1, 2025.

Time: 10:00 a.m. to 3:00 p.m.

Agenda: To review and evaluate grant applications.

Address: National Eye Institute, 6700 Rockledge Drive, Bethesda, MD 20817.

Meeting Format: Virtual Meeting.

Contact Person: Jennifer C. Schiltz, Ph.D., Scientific Review Officer, Division of Extramural Research, National Eye Institute, NIH, 6700 B Rockledge Drive, Suite 3400, Rockville, MD 20892, 240-276-5864, jennifer.schiltz@nih.gov.

(Catalogue of Federal Domestic Assistance Program No. 93.867, Vision Research, National Institutes of Health, HHS)

Dated: March 10, 2025.
Melanie J. Pantoja,
Program Analyst, Office of Federal Advisory Committee Policy.

[FR Doc. 2025-04145 Filed 3-14-25; 8:45 am]

BILLING CODE 4140-01-P